DEPARTMENT OF COMMERCE

National Oceanic and Atmospheric Administration

[I.D.062706C]

Endangered and Threatened Species; Take of Anadromous Fish

AGENCY: National Marine Fisheries Service (NMFS), National Oceanic and Atmospheric Administration (NOAA), Commerce.

ACTION: Receipt of an application to renew and to modify a scientific research permit; request for comments.

SUMMARY: Notice is hereby given that NMFS has received an application to renew and modify a permit for scientific research from the National Park Service (NPS) in Point Reyes Station, CA (1046). The permit would affect federally endangered Central California Coast coho salmon, threatened California Coastal Chinook salmon, and threatened Central California Coast steelhead. This document serves to notify the public of the availability of the permit application for review and comment.

DATES: Written comments on the permit application must be received no later than 5 p.m. Pacific Standard Time on August 7, 2006.

ADDRESSES: Comments submitted by e-mail must be sent to the following address: FRNpermits.SR@noaa.gov. The application and related documents are available for review by appointment, for Permit 1046 Modification 2: Protected Resources Division, NMFS, 777 Sonoma Avenue, Room 315, Santa Rosa, CA 95404 (ph: 707-575-6097, fax: 707-578-3435).

FOR FURTHER INFORMATION CONTACT: Jeffrey Jahn at phone number 707-575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Central California Coast coho salmon (Oncorhynchus kisutch), threatened California Coastal Chinook salmon (O. tshawytscha), and threatened Central California Coast steelhead (O. mykiss).

Renewal and Modification Request Received

NPS requests to renew and modify a 5-year permit (1046) for take of juvenile Central California Coast coho salmon, California Coastal Chinook salmon, and Central California Coast steelhead to monitor out-migrating salmonid smolts in Olema Creek, Pine Gulch, and Redwood Creek watersheds in Marin County, California. NPS requests authorization for an estimated annual non-lethal take of 9,875 juvenile Central California Coast coho salmon, 750 juvenile California Coastal Chinook salmon, and 9,875 juvenile Central California Coast steelhead, with no more than 3 percent unintentional mortality to result from capture (by fyke-net trap or pipe trap), handling, and release of fish. NPS also requests authorization for an estimated annual non-lethal take of 2,625 juvenile Central California Coast coho salmon, 250 juvenile California Coastal Chinook salmon, and 2,625 juvenile Central California Coast steelhead, with no more than 5 percent unintentional mortality to result from capture (by fyke-net trap or pipe trap), handling, passive integrated transponder (PIT) tagging, fin-clipping, and release of fish.

NPS requests take of juvenile Central California Coast coho salmon and Central California Coast steelhead to conduct a juvenile salmonid diet composition study in Olema Creek, Pine Gulch, and Redwood Creek watersheds in Marin County, California. NPS requests authorization for an estimated annual non-lethal take of 250 juvenile Central California Coast coho salmon and 150 juvenile Central California Coast steelhead, with no more than 5 percent unintentional mortality to result from capture (by fyke-net trap, pipe trap, or electrofishing), handling, stomach sampling (a process during which a blunt hypodermic syringe is used to flush stomach contents out of the esophagus), and release of fish.

NPS requests take of previously dead adult carcasses of Central California Coast coho salmon, California Coastal Chinook salmon, and Central California Coast steelhead to collect genetic information on spawning salmonids in the following watersheds: Olema Creek, Lagunitas Creek, Pine Gulch, Redwood Creek, and Easkoot Creek in Marin County, California; West Union Creek, Martini Creek, San Vicente Creek, and Denniston Creek in San Mateo County, California; and Alhambra Creek and Frankin Creek in Contra Costa County, California. NPS requests authorization to handle, tissue sample, and release an estimated 550 Central California Coast coho salmon adult carcasses, 150 California Coastal Chinook salmon adult carcasses, and 750 Central California Coast steelhead adult carcasses annually. NPS does not request any take of live adult salmonids for this study.

NPS requests take of adult Central California Coast coho salmon, California Coastal Chinook salmon, and Central California Coast steelhead to conduct adult spawner population monitoring, population abundance, fish migration, and population genetics studies in Olema Creek, Pine Gulch, and Redwood Creek in Marin County, California. NPS requests authorization for an estimated annual non-lethal take of 500 adult Central California Coast coho salmon, 200 adult California Coastal Chinook salmon, and 500 adult Central California Coast steelhead, with no more than 3 percent unintentional mortality to result from capture (by weir-trap), handling, tagging (with an external anchor tag), and release of fish.

NPS requests take of juvenile Central California Coast coho salmon, California Coastal Chinook salmon, and Central California Coast steelhead to conduct summer fish population monitoring in the following watersheds: Olema Creek, Lagunitas Creek, Pine Gulch, Redwood Creek, and Easkoot Creek in Marin County, California; West Union Creek, Martini Creek, San Vicente Creek, and Denniston Creek in San Mateo County, California; and Alhambra Creek and Frankin Creek in Contra Costa County, California. NPS requests authorization for an estimated annual non-lethal take of 9,500 juvenile Central California Coast coho salmon, 50 juvenile California Coastal Chinook salmon, and 11,500 juvenile Central California Coast steelhead, with no more than 3 percent unintentional mortality to result from capture (by seine or electrofishing), handling, fin-clipping, scale-sampling, and release of fish.

NPS requests take of juvenile Central California Coast coho salmon, California Coastal Chinook salmon, and Central California Coast steelhead to conduct fish rescue and relocation efforts of stranded salmonids in dry streams in the following watersheds: Olema Creek, Lagunitas Creek, Pine Gulch, Redwood Creek, and Easkoot Creek in Marin County, California; West Union Creek, Martini Creek, San Vicente Creek, and Denniston Creek in San Mateo County, California; and Alhambra Creek and Frankin Creek in Contra Costa County, California. NPS requests authorization for an estimated annual non-lethal take of 5,000 juvenile Central California Coast coho salmon, 50 juvenile California Coastal Chinook salmon, and 5,200 juvenile Central California Coast steelhead with no more than 5 percent unintentional mortality to result from capture (by seine or electrofishing), handling, transport, and release of fish.

NPS requests take of juvenile Central California Coast coho salmon and Central California Coast steelhead to conduct juvenile salmonid winter movement and habitat utilization studies in Olema Creek, Pine Gulch, and Redwood Creek watersheds in Marin County, California. NPS requests authorization for an estimated annual non-lethal take of 3,000 juvenile Central California Coast coho salmon and 3,000 juvenile Central California Coast steelhead, with no more than 3 percent unintentional mortality to result from capture (by seine or electrofishing), handling, and release of fish. NPS also requests authorization for an estimated annual non-lethal take of 2,000 juvenile Central California Coast coho salmon and 2,000 juvenile Central California Coast steelhead, with no more than 5 percent unintentional mortality to result from capture (by seine or electrofishing), handling, PIT tagging, fin-clipping, and release of fish.

Dated: June 29, 2006.
Angela Somma,
Chief, Endangered Species Division, Office of Protected Resources, National Marine Fisheries Service.

[FR Doc. E6-10557 Filed 7-5-06; 8:45 am]

BILLING CODE 3510-22-S